DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 73 FR 28483-84, dated May 16, 2008) is amended to reflect the reorganization of the National Office of Public Health Genomics, Coordinating Center for Health Promotion, Centers for Disease Control and Prevention.

Section C-B, Organization and Functions, is hereby amended as follows: Delete in their entirety the title and functional statement for the National Office of Public Health Genomics (CUE).

After the Extramural Research Program Office (CUC18), Office of the Director (CUC1), National Center for Chronic Disease Prevention and Health Promotion (CUC), insert the following:

Office of Public Health Genomics (CUC19). The Office of Public Health Genomics (OPHG) provides leadership, policy guidance, coordination, technical expertise, and services to promote the development and implementation of the agency's genomics and public health initiatives. In carrying out this mission, OPHG: (1) Advises the CDC Director on the integration of genomics into health research and practice issues relevant to the agency; (2) assesses evolving research advances in genomics with emphasis on their relevance to public health issues and, in cooperation with federal and national institutions, identifies and develops activities for applying CDC's technical expertise for maximum public health benefit; (3) collaborates with CDC's National Centers (NC), other federal agencies, countries, and organizations, as appropriate, to assist NCs in the development of appropriate policy for the use of genomics within health research and practice initiatives for which they have responsibility; (4) coordinates plans for the allocation of genomics health resources and assists in the development of external funding sources for programs and projects; (5) coordinates cross-cutting CDC genomics and public health enterprises; (6) provides leadership in the development and implementation of strategic planning that extends the CDC Genomics and Disease Prevention Strategic Plan—Integrating Advances in Human Genetics into Public Health Action (1997) in the development of institutional capacity; (7) coordinates collaborations with external agencies, academia, and private industry partners, including administration, budgets, and technical assistance to assure that agency obligations are met; (8) guides and coordinates activities to integrate genomics competency into national health workforce development with emphasis on recruitment and career enhancement of CDC assignees; (9) promotes a continuum of public health research for translation and application of the basic research achievements of the Human Genome Project; (10) stimulates the integration of genomic advances into disease prevention program development; and (11) provides genomics and disease prevention expertise to NC projects, as appropriate and requested by NCs.

Dated: June 10, 2008.
William H. Gimson,
Chief Operating Officer, Centers for Disease Control and Prevention.

[FR Doc. E8-13917 Filed 6-19-08; 8:45 am]

BILLING CODE 4160-18-M